DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On March 15, 2018, OFAC determined that the property and interests in property subject to U.S. jurisdiction of the following persons are blocked under the relevant sanctions authority listed below.

Individuals

1. AFANASYEV, Sergei (a.k.a. AFANASYEV, Sergey), Russia; DOB 16 May 1963; Gender Male (individual) [CAATSA—RUSSIA] (Linked To: MAIN INTELLIGENCE DIRECTORATE).

Designated pursuant to section 224(a)(1)(B) of the Countering America's Adversaries Through Sanctions Act, Public Law 115-44, (CAATSA), for acting or purporting to act for or on behalf of, directly or indirectly, the MAIN INTELLIGENCE DIRECTORATE, a person designated under Section 224(a)(1)(A) of CAATSA.

2. ALEXSEYEV, Vladimir Stepanovich; DOB 24 Apr 1961; Passport 100115154 (Russia); First Deputy Chief of GRU (individual) [CYBER2] [CAATSA—RUSSIA] (Linked To: MAIN INTELLIGENCE DIRECTORATE).

Designated pursuant to section 224(a)(1)(B) of CAATSA, for acting or purporting to act for or on behalf of, directly or indirectly, the MAIN INTELLIGENCE DIRECTORATE, a person designated under Section 224(a)(1)(A) of CAATSA.

3. GIZUNOV, Sergey Aleksandrovich (a.k.a. GIZUNOV, Sergey); DOB 18 Oct 1956; Gender Male; Passport 4501712967 (Russia); Deputy Chief of GRU (individual) [CYBER2] [CAATSA—RUSSIA] (Linked To: MAIN INTELLIGENCE DIRECTORATE).

Designated pursuant to section 224(a)(1)(B) of CAATSA, for acting or purporting to act for or on behalf of, directly or indirectly, the MAIN INTELLIGENCE DIRECTORATE, a person designated under Section 224(a)(1)(A) of CAATSA.

4. KOROBOV, Igor Valentinovich (a.k.a. KOROBOV, Igor); DOB 03 Aug 1956; nationality Russia; Gender Male; Passport 100119726 (Russia); alt. Passport 100115101 (Russia); Chief of GRU (individual) [CYBER2] [CAATSA—RUSSIA] (Linked To: MAIN INTELLIGENCE DIRECTORATE).

Designated pursuant to section 224(a)(1)(B) of CAATSA, for acting or purporting to act for or on behalf of, directly or indirectly, the MAIN INTELLIGENCE DIRECTORATE, a person designated under Section 224(a)(1)(A) of CAATSA.

5. KOSTYUKOV, Igor Olegovich (a.k.a. KOSTYUKOV, Igor); DOB 21 Feb 1961; Passport 100130896 (Russia); alt. Passport 100132253 (Russia); First Deputy Chief of GRU (individual) [CYBER2] [CAATSA—RUSSIA] (Linked To: MAIN INTELLIGENCE DIRECTORATE).

Designated pursuant to section 224(a)(1)(B) of CAATSA, for acting or purporting to act for or on behalf of, directly or indirectly, the MAIN INTELLIGENCE DIRECTORATE, a person designated under Section 224(a)(1)(A) of CAATSA.

6. MOLCHANOV, Grigoriy Viktorovich; DOB 01 Jan 1956 to 31 Dec 1956; citizen Russia; Gender Male (individual) [CAATSA—RUSSIA] (Linked To: MAIN INTELLIGENCE DIRECTORATE).

Designated pursuant to section 224(a)(1)(B) of CAATSA, for acting or purporting to act for or on behalf of, directly or indirectly, the MAIN INTELLIGENCE DIRECTORATE, a person designated under Section 224(a)(1)(A) of CAATSA.

Entities

1. MAIN INTELLIGENCE DIRECTORATE (a.k.a. GLAVNOE RAZVEDYVATEL'NOE UPRAVLENIE (Cyrillic: ГЛАВНОЕ РАЗВЕДЫВАТЕЛЬНОЕ УПРАВЛЕНИЕ); a.k.a. GRU; a.k.a. MAIN DIRECTORATE OF THE GENERAL STAFF; a.k.a. MAIN INTELLIGENCE DEPARTMENT), Khoroshevskoye Shosse 76, Khodinka, Moscow, Russia; Ministry of Defence of the Russian Federation, Frunzenskaya nab., 22/2, Moscow 119160, Russia [CYBER2] [CAATSA—RUSSIA].

Designated pursuant to section 224(a)(1)(A) of CAATSA, for knowingly engaging in significant activities undermining cybersecurity against any person, including a democratic institution, or government on behalf of the Government of the Russian Federation.

2. FEDERAL SECURITY SERVICE (a.k.a. FEDERALNAYA SLUZHBA BEZOPASNOSTI; a.k.a. FSB), Ulitsa Kuznetskiy Most, Dom 22, Moscow 107031, Russia; Lubyanskaya Ploschad, Dom 2, Moscow 107031, Russia [CYBER2] [CAATSA—RUSSIA].

Designated pursuant to section 224(a)(1)(A) of CAATSA, for knowingly engaging in significant activities undermining cybersecurity against any person, including a democratic institution, or government on behalf of the Government of the Russian Federation.

Dated: March 15, 2018.
John E. Smith,
Director, Office of Foreign Assets Control.

[FR Doc. 2018-05600 Filed 3-19-18; 8:45 am]

BILLING CODE 4810-AL-P